DEPARTMENT OF HEALTH AND HUMAN SERVICES

Indian Health Service

SES Executive Review Board/Performance Review Board

AGENCY: Indian Health Service.

ACTION: Notice.

SUMMARY: Notice is hereby given of the appointment of members of the Indian Health Service (IHS) Senior Executive Service (SES) Executive Review Board/SES Performance Review Board.

FOR FURTHER INFORMATION CONTACT: Phyllis Eddy, Acting Director, Office of Management Services, 801 Thompson Avenue, Suite 120, Rockville, Maryland 20852, (301) 443-6290.

SUPPLEMENTARY INFORMATION: Section 4314(c) (1) through (5) of Title 5, U.S.C., requires each agency to establish, in accordance with regulations prescribed by the Office of Personnel Management, one or more SES performance review boards. The board reviews and evaluates the initial appraisal of a senior executive's performance by the supervisor and considers recommendations to the appointing authority regarding the performance of the senior executive.

The following have been designated as regular members of the Senior Executive Service (SES) Executive Review Board/SES Performance Review Board for IHS: Phyllis Eddy, Chair; Elaine Perry, Deputy Director, Office of the Administrator, Substance Abuse and Mental Health Services Administration; Robert G. McSwain, Acting Deputy Director, Management Operations; Gary Hartz, Acting Deputy Director, IHS; Chris Mandregan, Jr., Director, Alaska Area IHS; Doni Wilder, Director, Portland Area IHS; John Hubbard, Director, Navajo Area IHS.

Dated: November 5, 2004.
Charles W. Grim,
Assistant Surgeon General, Director.

[FR Doc. 04-25244 Filed 11-12-04; 8:45 am]

BILLING CODE 4160-16-M